DEPARTMENT OF ENERGY

Federal Energy Regulatory Commission

[Docket No. PF03-1-000]

El Paso Corporation; Notice of Pre-Filing Environmental Review and Scoping for the Cheyenne Plains Pipeline Project and Request for Comments on Environmental Issues

March 14, 2003.

The Federal Energy Regulatory Commission's (FERC or Commission) staff has begun a pre-filing environmental review for El Paso Corporation's (El Paso) planned Cheyenne Plains Pipeline Project.¹ El Paso is planning a 380-mile-long, 30-inch-diameter natural gas pipeline which would extend from northeastern Colorado into western Kansas. This project is currently in an early design stage. As a stakeholder in this process, we invite you to assist us in our review. Specifically, you can provide us with written comments which identify potential environmental impacts of constructing and operating the project.

¹ The El Paso Corporation would actually file with the Commission an application under a new subsidiary to construct the Cheyenne Plains Project. The Cheyenne Plains Gas Pipeline Company has recently been formed by its parent corporation, El Paso. El Paso has also indicated that the new facilities would be operated by Colorado Interstate Gas Company (CIG), also a subsidiary of El Paso. After the certificate application is filed, we will refer to the proponent of the project as Cheyenne Plains Pipeline Company.

The Commission staff is currently planning to prepare an environmental impact statement (EIS) for El Paso's project². This EIS will be used by the Commission in its decision-making process to determine whether or not the project is in the public convenience and necessity.

² El Paso's preliminary environmental information for this project is filed in Docket No. PF03-1-000. El Paso's certificate application would be given a “CP” docket number filing designation when it is filed with the Commission. This application should fall under section 7(c) of the Natural Gas Act and part 157 of the Commission's regulations.

If you are an affected property owner receiving this letter, you may be contacted by an El Paso representative about the acquisition of an easement to construct, operate, and maintain the planned facilities. You may have already been contacted by El Paso about the Cheyenne Plains Pipeline Project, or may have attended the Open Houses recently sponsored by El Paso in February 2003. El Paso would seek to negotiate a mutually acceptable agreement. However, if the project is filed with the Commission and is ultimately approved, that approval conveys with it the right of eminent domain. Therefore, if easement negotiations fail to produce an agreement, the pipeline company could initiate condemnation proceedings in accordance with state law.

A preliminary route has been established by El Paso, however, if minor reroutes or variations are required to avoid or minimize impacts to certain features on your property, this is your opportunity to assist us and El Paso in identifying those specific areas of concern on your property. Provided as Appendix 2 is a Fact Sheet for your information. It includes information on how to contact El Paso. It also further describes the Commission's National Environmental Policy Act (NEPA)-pre-filing process.

El Paso has initiated a Public Participation Plan to provide a means of communication for participating stakeholders and has established a toll-free telephone number for communicating with El Paso representatives (1-877-598-5263). See Appendix 2 for additional information on how to contact El Paso. If you have any further questions for El Paso regarding its planned project, we encourage you to contact their representatives to answer your questions and address your concerns.

This notice is being mailed to landowners whose properties are currently within the Cheyenne Plains Pipeline Project's 200-foot-wide corridor along the planned route; Federal, State, and local government agencies; elected officials; environmental and public interest groups; Native American tribes; and local libraries and newspapers. We encourage government representatives to notify their constituents of this planned action and encourage them to comment on their areas of concern.

The Commission is the lead Federal agency for conducting the environmental review, pursuant to NEPA. The following State and Federal agencies and organizations have agreed to participate in this pre-filing process:

U.S. Forest Service, Pawnee National Grasslands;

National Park Service, Long Distance Trails Office;

U.S. Fish and Wildlife Service, Kansas and Colorado Field Offices;

U.S. Army Corps of Engineers, Colorado and Kansas Districts;

Kansas State Historic Preservation Office;

Colorado State Historic Preservation Office;

Kansas Department of Wildlife and Parks;

Colorado Division of Wildlife; Santa Fe Trail Association.

Other agencies or organizations who are interested in participating should indicate this in a written request to the Secretary of the Commission (Secretary). Please carefully follow the instructions in the “Public Participation” section of this notice. All participating agencies are encouraged to take part in the scoping process and provide us written comments. Agencies are also welcome to suggest format and content changes that will make it easier for them to adopt the EIS. However, we will decide what modifications will be adopted in light of our production constraints.

Summary of the Project

El Paso states that its project would transport up to 540,000 dekatherms per day from the hub at Cheyenne to major pipelines in the Midwest. The preliminary facilities include:

• About 380 miles of 30-inch-diameter pipeline in Weld, Morgan, Washington, Yuma, and Kit Carson Counties, Colorado; and Sherman, Wallace, Logan, Scott, Lane, Finney, Hodgeman, Ford, and Kiowa Counties, Kansas;

• An additional 32,675 horsepower to be installed at CIG's existing Cheyenne Compressor Station in Weld County, Colorado;

• Two new meter stations to be installed at the Cheyenne Compressor Station for Wyoming Interstate Gas Company and CIG. A new amine processing facility is also planned;

• Up to six meter stations/interconnects with various other major pipeline companies' facilities at the termination of the mainline; and

• Various aboveground facilities, such as pig launchers and receivers, and block valves placed about every 15 to 18 miles.

El Paso plans to construct this project in the third quarter of 2004, to be placed in-service by mid-2005. A general location map of the project facilities is shown in Appendix 2.³

³ The appendices referenced in this notice are not being printed in the Federal Register. Copies are available on the Commission's Web site at the “FERRIS” link or from the Commission's Public Reference and Files Maintenance Branch, 888 First Street, NE., Room 2A, Washington, DC 20426, or call 1-866-208-3676. Copies of the appendices were sent to all those receiving this notice in the mail.

Construction of the planned pipeline would require about 4,700 acres including the pipeline construction right-of-way (ROW) and additional temporary work spaces. Following construction, about 2,300 acres would be retained as new permanent ROW for the pipeline. The remaining 2,400 acres of temporary work space would be restored and allowed to revert to its former use. Construction at the existing Cheyenne Compressor Station would occur on the existing site.

The EIS Process

NEPA requires the Commission to take into account the environmental impacts that could result from an action whenever it considers the issuance of a Certificate of Public Convenience and Necessity. NEPA also requires us to solicit and address concerns the public may have about proposals. We call this “scoping.” The main goal of the scoping process is to focus the EIS on the important environmental issues. With this notice, the Commission is continuing to seek public comments on the scope of the issues it will address in the EIS. All comments received are considered during the preparation of the EIS. State and local government representatives are encouraged to notify their constituents of this planned project and encourage them to comment on their areas of concern.

Currently Identified Environmental Issues

We have identified several issues that we think deserve attention based on a preliminary review of the planned facilities and the environmental information provided by El Paso. This preliminary list of issues may be changed based on our analysis:

• Federally listed endangered or threatened species, may occur in the project area.

• The Pawnee National Grasslands is crossed.

• Numerous streams and wetlands are crossed.

• Agricultural fields and pastures are crossed, including those that are actively cultivated and irrigated.

• Rangelands, including those that are actively grazed, are crossed.

• The Santa Fe Trail is crossed in Ford County, Kansas.

Our evaluation will also include possible alternatives to the proposed project or portions of the project, and we will make recommendations on how to lessen or avoid impacts on the various resource areas of concern.

Our independent analysis of the issues will result in the publication of a draft EIS that will be mailed to Federal, State, and local government agencies; Native American tribes; elected officials; public interest groups; interested individuals; interested affected landowners; newspapers; libraries; and the Commission's official service list for this proceeding. A 45-day comment period will be allotted for review of the draft EIS. We will consider comments on the draft EIS and revise the document, as necessary, before issuing a final EIS. The final EIS will include our response to comments received on the draft EIS and will be used by the Commission in its decision-making process to determine whether or not to approve the project.

Public Participation

You can make a difference by providing us with your specific comments or concerns about the project. By becoming a commentor, your concerns will be addressed in the EIS and considered by the Commission. You should focus on the potential environmental effects of the proposal, alternatives to the proposal (including alternative locations and routes), and measures to avoid or lessen environmental impact. The more specific your comments, the more useful they will be. Please carefully follow these instructions to ensure that your comments are received and properly recorded:

• Send an original and two copies of your letter to: Magalie R. Salas, Secretary, Federal Energy Regulatory Commission, 888 First St., NE., Room 1A, Washington, DC 20426;

• Refer to Docket No. PF03-1-000;

• Label one copy of the comments for the attention of Gas Branch 1, PJ-11.1.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

If you do not want to send comments at this time but still want to remain on our mailing list, please return the Mailing List Retention Form included in Appendix 1. If you do not return the form, you will be taken off the mailing list.

The Pre-Filing NEPA Process

FERC has initiated work on evaluating the Cheyenne Plains Pipeline Project using the Pre-Filing NEPA Process. FERC has assigned a Pre-Filing Docket Number (PF01-3-000). When El Paso files an application, it will be assigned a “CP” docket number, and all information filed under Docket No. PF03-1-000 will be become part of the record for the “CP docket.” All comments received during the pre-filing period will be considered during the preparation of the EIS.

Becoming an Intervenor

Once El Paso files a certificate application at the FERC for the Cheyenne Plains Pipeline Project, you may want to become an official party to the proceeding, known as an “intervenor.” Intervenors play a more formal role in the process. Among other things, intervenors have the right to receive copies of case-related Commission documents and filings by other intervenors. Likewise, each intervenor must provide 14 copies of its filings to the Secretary and must send a copy of its filings to all other parties on the Commission's service list for this proceeding. If you want to become an intervenor you must file a motion to intervene according to rule 214 of the Commission's rules of practice and procedure (18 CFR 385.214).⁴ Only intervenors have the right to seek rehearing of the Commission's decision.

⁴ Interventions may also be filed electronically via the Internet in lieu of paper. See the previous discussion on filing comments electronically. See www.ferc.gov for more information.

Affected landowners and parties with environmental concerns may be granted intervenor status upon showing good cause by stating that they have a clear and direct interest in this proceeding that would not be adequately represented by any other parties. You do not need intervenor status to have your environmental comments considered.

Parties cannot intervene in this project until a certificate application is filed at the FERC. The company will mail a notice of this filing to affected landowners shortly after it occurs.

Magalie R. Salas,
Secretary.

[FR Doc. 03-6725 Filed 3-19-03; 8:45 am]

BILLING CODE 6717-01-P